NATIONAL CREDIT UNION ADMINISTRATION

Sunshine Act Meetings

Time and Date: 10 a.m., Thursday, June 14, 2001.

Place: Board Room, 7th Floor, Room 7047, 1775 Duke Street, Alexandria, VA 22314-3428.

Status: Open.

Matters to be Considered:

1. Request from a Federal Credit Union to Convert to a Community Charter.

2. Request from a Corporate Federal Credit Union for a Field of Membership Amendment and Expansion.

3. Interim Final Rule: Amendments to Part 707, NCUA's Rules and Regulations, Truth in Savings.

4. Proposed Rule: Request for Comments Regarding Parts 700, 701, 712, 715, 723, 725, and 790, Definitions and Technical Amendments.

Recess: 11:15 a.m.

Time and Date: 11:30 a.m., Thursday, June 14, 2001.

Place: Board Room, 7th Floor, Room 7047, 1775 Duke Street, Alexandria, VA 22314-3428.

Status: Closed.

Matters to be Considered:

1. Administrative Action under Part 704 of NCUA's Rules and Regulations. Closed pursuant to exemption (8).

2. Action under Section 1785(d)(1) of the Federal Credit Union Act. Closed pursuant to exemptions (6) and (7).

3. One (1) Personnel Matter. Closed pursuant to exemptions (2) and (6).

FOR FURTHER INFORMATION CONTACT: Becky Baker, Secretary of the Board, Telephone 703-518-6304.

Becky Baker,
Secretary of the Board.

[FR Doc. 01-14808 Filed 6-7-01; 3:12 pm]

BILLING CODE 7535-01-M